ENVIRONMENTAL PROTECTION AGENCY

[Docket ID Number EPA-HQ-OECA-2012-0642, 0643, 0645, 0646, 0653-0660, 0662, 0664-0666, 0668, 0669, 0676-0681, 0685-0688, 0690, 0691, 0693, 0695, 0697, 0699, 0701-703 [FRL-9742-5]]

Agency Information Collection Activities: Request for Comments on Thirty-Seven Proposed Information Collection Requests (ICR)

AGENCY: Environmental Protection Agency (EPA).

ACTION: Notice.

SUMMARY: In compliance with the Paperwork Reduction Act (44 U.S.C. 3501 et seq.), this document announces that EPA is planning to submit the following thirty-seven existing, approved, continuing Information Collection Requests (ICR) to the Office of Management and Budget (OMB) for the purpose of renewing the ICR. Before submitting the ICRs to OMB for review and approval, EPA is soliciting comments on specific aspects of the information collections as described under SUPPLEMENTARY INFORMATION.

DATES: Comments must be submitted on or before December 17, 2012.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II.C.

SUPPLEMENTARY INFORMATION:

A. How can I access the docket and/or submit comments?

(1) Docket Access Instructions

EPA has established a public docket for the ICRs listed in the SUPPLEMENTARY INFORMATION, section II.B. The docket is available for online viewing at http://www.regulations.gov, or in person viewing at the Enforcement and Compliance Docket and Information Center (ECDIC), in the EPA Docket Center (EPA/DC), EPA West, Room 3334, 1301 Constitution Avenue NW., Washington, DC. The EPA/DC Public Reading Room is open from 8 a.m. to 4:30 p.m., Monday through Friday, excluding legal holidays. The telephone number for the Reading Room is (202) 566-1744, and the telephone number for the Enforcement and Compliance Docket and Information Center (ECDIC) docket is (202) 566-1752.

Use http://www.regulations.gov to obtain a copy of the draft collection of information, submit or view public comments, access the index listing of the contents of the docket, and to access those documents in the public docket that are available electronically. When in the system, select “search,” then key in the docket ID number identified in this document.

(2) Instructions for Submitting Comments

Submit your comments by one of the following methods:

(a) Electronic Submission: Access http://www.regulations.gov and follow the on-line instructions for submitting comments.

(b) Email: docket.oeca@epa.gov.

(c) Fax: (202) 566-1511.

(d) Mail: Enforcement and Compliance Docket and Information Center (ECDIC), Environmental Protection Agency, EPA Docket Center (EPA/DC), Mail code: 2201T, 1200 Pennsylvania Avenue NW., Washington, DC 20460.

(e) Hand Delivery: Enforcement and Compliance Docket and Information Center (ECDIC), Environmental Protection Agency, EPA Docket Center (EPA/DC), EPA West, Room 3334, 1301 Constitution Avenue NW., Washington, DC. The EPA Docket Center is open from 8:30 a.m. to 4:30 p.m., Monday through Friday, excluding legal holidays. Deliveries are only accepted during the Docket Center's normal hours of operation, and special arrangements should be made for deliveries of boxed information.

Direct your comments to the specific docket listed in SUPPLEMENTARY INFORMATION, section II.B, and reference the OMB Control Number for the ICR. It is EPA policy that all comments received will be included in the public docket without change and may be made available online at http://www.regulations.gov, including any personal information provided, unless the comment includes information claimed to be Confidential Business Information (CBI) or other information whose disclosure is restricted by statute. Do not submit information that you consider to be CBI or otherwise protected through www.regulations.gov or email. The http://www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about the EPA public docket, visit the EPA Docket Center homepage at http://www.epa.gov/epahome/dockets.htm.

B. What information is EPA particularly interested in?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies, or other forms of information technology, e.g., permitting electronic submission of responses.

C. What should I consider when I prepare my comments for EPA?

You may find the following suggestions helpful for preparing comments:

(1) Explain your views as clearly as possible and provide specific examples.

(2) Describe any assumptions that you used.

(3) Provide copies of any technical information and/or data you used that support your views.

(4) If you estimate potential burden or costs, explain how you arrived at the estimate that you provide.

(5) Offer alternative ways to improve the collection activity.

(6) Make sure to submit your comments by the deadline identified under DATES.

(7) To ensure proper receipt by EPA, be sure to identify the docket ID number assigned to this action in the subject line on the first page of your response. You may also provide the name, date, and Federal Register citation.

II. ICRs To Be Renewed

A. For All ICRs

The Agency computed the burden for each of the recordkeeping and reporting requirements applicable to the industry for the currently approved ICRs listed in this notice. Where applicable, the Agency identified specific tasks and made assumptions, while being consistent with the concept of the PRA.

Burden means the total time, effort, or financial resources expended by persons to generate, maintain, retain, or disclose or provide information to or for a Federal agency. This includes the time needed to review instructions to; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis as required by the Clean Air Act.

An Agency may not conduct or sponsor, and a person is not required to respond to, a collection of information, unless the Agency displays a currently valid OMB control number. The OMB control numbers for the EPA regulations under Title 40 of the Code of Federal Regulations are published in the Federal Register, or on the related collection instrument or form. The display of OMB control numbers for certain EPA regulations is consolidated at 40 CFR part 9.

B. What information collection activity or ICR does this apply to?

In compliance with the Paperwork Reduction Act (44 U.S.C. 3501 et seq.), this notice announces that EPA is planning to submit the following thirty-seven Information Collection Requests (ICR) to the Office of Management and Budget (OMB):

(1) Docket ID Number: EPA-HQ-OECA-2012-0659.

Title: NESHAP for Perchloroethylene Dry Cleaning Facilities (40 CFR Part 63, Subpart M).

ICR Numbers: EPA ICR Number 1415.10, OMB Control Number 2060-0234.

ICR Status: This ICR is scheduled to expire on March 31, 2013.

(2) Docket ID Number: EPA-HQ-OECA-2012-0680.

Title: Emission Guidelines and Compliance Times for Municipal Solid Waste Landfills (40 CFR Part 60, Subpart Cc and 40 CFR Part 62, Subpart GGG).

ICR Numbers: EPA ICR Number 1893.06, OMB Control Number 2060-0430.

ICR Status: This ICR is scheduled to expire on March 31, 2013.

(3) Docket ID Number: EPA-HQ-OECA-2012-0693.

Title: NESHAP for Taconite Iron Ore Processing (40 CFR Part 63, Subpart RRRRR).

ICR Numbers: EPA ICR Number 2050.05, OMB Control Number 2060-0538.

ICR Status: This ICR is scheduled to expire on March 31, 2013.

(4) Docket ID Number: EPA-HQ-OECA-2012-0653.

Title: NSPS for Steel Plants: Electric Arc Furnaces and Argon Oxygen Decarbonization Vessels (40 CFR Part 60, Subparts AA and AAa).

ICR Numbers: EPA ICR Number 1060.16, OMB Control Number 2060-0038.

ICR Status: This ICR is scheduled to expire on March 31, 2013.

(5) Docket ID Number: EPA-HQ-OECA-2012-0703.

Title: NESHAP for Prepared Feeds Manufacturing (40 CFR Part 63, Subpart DDDDDDD).

ICR Numbers: EPA ICR Number 2354.03, OMB Control Number 2060-0635.

ICR Status: This ICR is scheduled to expire on March 31, 2013.

(6) Docket ID Number: EPA-HQ-OECA-2012-0642.

Title: NESHAP for Chemical Preparations Industry (40 CFR Part 63, Subpart BBBBBBB).

ICR Numbers: EPA ICR Number 2356.03, OMB Control Number 2060-0636.

ICR Status: This ICR is scheduled to expire on March 31, 2013.

(7) Docket ID Number: EPA-HQ-OECA-2012-0655.

Title: NSPS for Ammonium Sulfate Manufacturing Plants (40 CFR Part 60, Subpart PP).

ICR Numbers: EPA ICR Number 1066.07, OMB Control Number 2060-0032.

ICR Status: This ICR is scheduled to expire on April 30, 2013.

(8) Docket ID Number: EPA-HQ-OECA-2012-0702.

Title: NESHAP for Area Sources: Polyvinyl Chloride and Copolymer Production, Primary Copper Smelting, Secondary Copper Smelting, and Primary Nonferrous Metals-Zinc, Cadmium, and Beryllium.

ICR Numbers: EPA ICR Number 2240.04, OMB Control Number 2060-0596.

ICR Status: This ICR is scheduled to expire on May 31, 2013.

(9) Docket ID Number: EPA-HQ-OECA-2012-0691.

Title: NESHAP for Mercury Cell Chlor-Alkali Plants (40 CFR Part 63, Subpart IIIII).

ICR Numbers: EPA ICR Number 2046.07, OMB Control Number 2060-0542.

ICR Status: This ICR is scheduled to expire on May 31, 2013.

(10) Docket ID Number: EPA-HQ-OECA-2012-0699.

Title: NESHAP for Primary Magnesium Refining (40 CFR Part 63, Subpart TTTTT).

ICR Numbers: EPA ICR Number 2098.06, OMB Control Number 2060-0536.

ICR Status: This ICR is scheduled to expire on June 30, 2013.

(11) Docket ID Number: EPA-HQ-OECA-2012-0666.

Title: NESHAP for the Printing and Publishing Industry (40 CFR Part 63, Subpart KK).

ICR Numbers: EPA ICR Number 1739.07, OMB Control Number 2060-0335.

ICR Status: This ICR is scheduled to expire on June 30, 2013.

(12) Docket ID Number: EPA-HQ-OECA-2012-0643.

Title: NSPS for Pressure Sensitive Tape and Label Surface Coating (40 CFR Part 60, Subpart RR).

ICR Numbers: EPA ICR Number 0658.11, OMB Control Number 2060-0004.

ICR Status: This ICR is scheduled to expire on June 30, 2013.

(13) Docket ID Number: EPA-HQ-OECA-2012-0669.

Title: NESHAP for Oil and Natural Gas Production (40 CFR Part 63, Subpart HH).

ICR Numbers: EPA ICR Number 1788.10, OMB Control Number 2060-0417.

ICR Status: This ICR is scheduled to expire on June 30, 2013.

(14) Docket ID Number: EPA-HQ-OECA-2012-0695.

Title: NESHAP for Site Remediation (40 CFR Part 63, Subpart GGGGG).

ICR Numbers: EPA ICR Number 2062.05, OMB Control Number 2060-0534.

ICR Status: This ICR is scheduled to expire on June 30, 2013.

(15) Docket ID Number: EPA-HQ-OECA-2012-0688.

Title: NESHAP for Plastic Parts and Products Surface Coating (40 CFR Part 63, Subpart PPPP).

ICR Numbers: EPA ICR Number 2044.05, OMB Control Number 2060-0537.

ICR Status: This ICR is scheduled to expire on June 30, 2013.

(16) Docket ID Number: EPA-HQ-OECA-2012-0658.

Title: NSPS/NESHAP for Wool Fiberglass Insulation Manufacturing Plants (40 CFR Part 60, Subpart PPP and 40 CFR Part 63, Subpart NNN).

ICR Numbers: EPA ICR Number 1160.11, OMB Control Number 2060-0114.

ICR Status: This ICR is scheduled to expire on June 30, 2013.

(17) Docket ID Number: EPA-HQ-OECA-2012-0657.

Title: NSPS for Flexible Vinyl and Urethane Coating and Printing (40 CFR Part 60, Subpart FFF).

ICR Numbers: EPA ICR Number 1157.10, OMB Control Number 2060-0073.

ICR Status: This ICR is scheduled to expire on June 30, 2013.

(18) Docket ID Number: EPA-HQ-OECA-2012-0677.

Title: NSPS for Storage Vessels for Petroleum Liquids for which Construction, Reconstruction or Modification Commenced after June 11, 1973, and prior to May 19, 1978 (40 CFR Part 60, Subpart K).

ICR Numbers: EPA ICR Number 1797.06, OMB Control Number 2060-0442.

ICR Status: This ICR is scheduled to expire on June 30, 2013.

(19) Docket ID Number: EPA-HQ-OECA-2012-0681.

Title: NSPS for Commercial and Industrial Solid Waste Incineration Units (40 CFR Part 60, Subpart CCCC).

ICR Numbers: EPA ICR Number 1926.06, OMB Control Number 2060-0450.

ICR Status: This ICR is scheduled to expire on June 30, 2013.

(20) Docket ID Number: EPA-HQ-OECA-2012-0645.

Title: NSPS for Nitric Acid Plants (40 CFR Part 60, Subpart G).

ICR Numbers: EPA ICR Number 1056.11, OMB Control Number 2060-0019.

ICR Status: This ICR is scheduled to expire on June 30, 2013.

(21) Docket ID Number: EPA-HQ-OECA-2012-0654.

Title: NSPS for Automobile and Light Duty Truck Surface Coating Operations (40 CFR Part 60, Subpart MM).

ICR Numbers: EPA ICR Number 1064.17, OMB Control Number 2060-0034.

ICR Status: This ICR is scheduled to expire on June 30, 2013.

(22) Docket ID Number: EPA-HQ-OECA-2012-0656.

Title: NSPS for Lead-Acid Battery Manufacturing (40 CFR Part 60, Subpart KK).

ICR Numbers: EPA ICR Number 1072.10, OMB Control Number 2060-0081.

ICR Status: This ICR is scheduled to expire on June 30, 2013.

(23) Docket ID Number: EPA-HQ-OECA-2012-0701.

Title: NESHAP for Miscellaneous Coating Manufacturing (40 CFR Part 63, Subpart HHHHH).

ICR Numbers: EPA ICR Number 2115.04, OMB Control Number 2060-0535.

ICR Status: This ICR is scheduled to expire on June 30, 2013.

(24) Docket ID Number: EPA-HQ-OECA-2012-0676.

Title: NESHAP for Phosphoric Acid Manufacturing and Phosphate Fertilizers Production (40 CFR Part 63, Subparts AA and BB).

ICR Numbers: EPA ICR Number 1790.06, OMB Control Number 2060-0361.

ICR Status: This ICR is scheduled to expire on June 30, 2013.

(25) Docket ID Number: EPA-HQ-OECA-2012-0668.

Title: NESHAP for Flexible Polyurethane Foam Product (40 CFR Part 63, Subpart III)

ICR Numbers: EPA ICR Number 1783.06, OMB Control Number 2060-0357

ICR Status: This ICR is scheduled to expire on June 30, 2013.

(26) Docket ID Number: EPA-HQ-OECA-2012-0685.

Title: Emission Guidelines for Existing Commerce and Industrial Solid Waste Incineration Units (40 CFR Part 60, Subpart DDDD).

ICR Numbers: EPA ICR Number 1927.06, OMB Control Number 2060-0451.

ICR Status: This ICR is scheduled to expire on June 30, 2013.

(27) Docket ID Number: EPA-HQ-OECA-2012-0660.

Title: NESHAP for Halogenated Solvent Cleaners/Halogenated Hazardous Air Pollutants (40 CFR Part 63, Subpart T).

ICR Numbers: EPA ICR Number 1652.08, OMB Control Number 2060-0273.

ICR Status: This ICR is scheduled to expire on June 30, 2013.

(28) Docket ID Number: EPA-HQ-OECA-2012-0665.

Title: NESHAP for Magnetic Tape Manufacturing Operations (40 CFR Part 63, Subpart EE).

ICR Numbers: EPA ICR Number 1678.08, OMB Control Number 2060-0326.

ICR Status: This ICR is scheduled to expire on June 30, 2013.

(29) Docket ID Number: EPA-HQ-OECA-2012-0678.

Title: NESHAP for Mineral Wool Production (40 CFR Part 63, Subpart DDD).

ICR Numbers: EPA ICR Number 1799.07, OMB Control Number 2060-0362.

ICR Status: This ICR is scheduled to expire on June 30, 2013.

(30) Docket ID Number: EPA-HQ-OECA-2012-0664.

Title: NESHAP for Commercial Ethylene Oxide Sterilization and Fumigation Operations (40 CFR Part 63, Subpart O).

ICR Numbers: EPA ICR Number 1666.09, OMB Control Number 2060-0283.

ICR Status: This ICR is scheduled to expire on June 30, 2013.

(31) Docket ID Number: EPA-HQ-OECA-2012-0646.

Title: NSPS for Incinerators (40 CFR Part 60, Subpart E).

ICR Numbers: EPA ICR Number 1058.11, OMB Control Number 2060-0040.

ICR Status: This ICR is scheduled to expire on August 31, 2013.

(32) Docket ID Number: EPA-HQ-OECA-2012-0697.

Title: NESHAP for Iron and Steel Foundries (40 CFR Part 63, Subpart EEEEE).

ICR Numbers: EPA ICR Number 2096.05, OMB Control Number 2060-0543.

ICR Status: This ICR is scheduled to expire on September 30, 2013.

(33) Docket ID Number: EPA-HQ-OECA-2012-0686.

Title: NESHAP for Organic Liquids Distribution (Non-Gasoline) Facilities (40 CFR Part 63, Subpart EEEE).

ICR Numbers: EPA ICR Number 1963.05, OMB Control Number 2060-0539.

ICR Status: This ICR is scheduled to expire on September 30, 2013.

(34) Docket ID Number: EPA-HQ-OECA-2012-0662.

Title: NESHAP for Gasoline Distribution Facilities (40 CFR Part 63, Subpart R).

ICR Numbers: EPA ICR Number 1659.08, OMB Control Number 2060-0325.

ICR Status: This ICR is scheduled to expire on September 30, 2013.

(35) Docket ID Number: EPA-HQ-OECA-2012-0687.

Title: NESHAP for Stationary Combustion Turbines (40 CFR Part 63, Subpart YYYY).

ICR Numbers: EPA ICR Number 1967.05, OMB Control Number 2060-0540.

ICR Status: This ICR is scheduled to expire on September 30, 2013.

(36) Docket ID Number: EPA-HQ-OECA-2012-0690.

Title: NESHAP for Automobile and Light-duty Truck Surface Coating (40 CFR Part 63, Subpart IIII).

ICR Numbers: EPA ICR Number 2045.05, OMB Control Number 2060-0550.

ICR Status: This ICR is scheduled to expire on September 30, 2013.

(37) Docket ID Number: EPA-HQ-OECA-2012-0679.

Title: NESHAP for Petroleum Refineries: Catalytic Cracking Units, Reforming and Sulfur Units (40 CFR Part 63, Subpart UUU).

ICR Numbers: EPA ICR Number 1844.05, OMB Control Number 2060-0554.

ICR Status: This ICR is scheduled to expire on September 30, 2013.

C. Contact Individuals for ICRs

(1) NESHAP for Perchloroethylene Dry Cleaning Facilities (40 CFR Part 63, Subpart M); Learia Williams of the Office of Compliance (202) 564-4113 or via Email to: williams.learia@epa.gov; EPA ICR Number 1415.10, OMB Control Number 2060-0234; expiration date March 31, 2013.

(2) Emission Guidelines and Compliance Times for Municipal Solid Waste Landfills (40 CFR Part 60, Subpart Cc and 40 CFR Part 62, Subpart GGG); Learia Williams of the Office of Compliance (202) 564-4113 or via Email to: williams.learia@epa.gov; EPA ICR Number 1893.06, OMB Control Number 2060-0430; expiration date March 31, 2013.

(3) NESHAP for Taconite Iron Ore Processing (40 CFR Part 63, Subpart RRRRR); Learia Williams of the Office of Compliance (202) 564-4113 or via Email to: williams.learia@epa.gov; EPA ICR Number 2050.05, OMB Control Number 2060-0538; expiration date March 31, 2013.

(4) NSPS for Steel Plants: Electric Arc Furnaces and Argon Oxygen Decarbonization Vessels (40 CFR Part 60, Subparts AA and AAa); Learia Williams of the Office of Compliance (202) 564-4113 or via Email to: williams.learia@epa.gov; EPA ICR Number 1060.16, OMB Control Number 2060-0038; expiration date March 31, 2013.

(5) NESHAP for Prepared Feeds Manufacturing (40 CFR Part 63, Subpart DDDDDDD); Learia Williams of the Office of Compliance (202) 564-4113 or via Email to: williams.learia@epa.gov; EPA ICR Number 2354.03, OMB Control Number 2060-0635; expiration date March 31, 2013.

(6) NESHAP for Chemical Preparations Industry (40 CFR Part 63, Subpart BBBBBBB); Learia Williams of the Office of Compliance (202) 564-4113 or via Email to: williams.learia@epa.gov; EPA ICR Number 2356.03, OMB Control Number 2060-0636; expiration date March 31, 2013.

(7) NSPS for Ammonium Sulfate Manufacturing Plants (40 CFR Part 60, Subpart PP); Learia Williams of the Office of Compliance (202) 564-4113 or via Email to: williams.learia@epa.gov; EPA ICR Number 1066.07, OMB Control Number 2060-0032; expiration date April 30, 2013.

(8) NESHAP for Area Sources: Polyvinyl Chloride and Copolymer Production, Primary Copper Smelting, Secondary Copper Smelting, and Primary Nonferrous Metals—Zinc, Cadmium, and Beryllium; Learia Williams of the Office of Compliance (202) 564-4113 or via Email to: williams.learia@epa.gov; EPA ICR Number 2240.04, OMB Control Number 2060-0596; expiration date May 31, 2013.

(9) NESHAP for Mercury Cell Chlor-Alkali Plants (40 CFR Part 63, Subpart IIIII); Learia Williams of the Office of Compliance (202) 564-4113 or via Email to: williams.learia@epa.gov; EPA ICR Number 2046.07, OMB Control Number 2060-0542; expiration date May 31, 2013.

(10) NESHAP for Primary Magnesium Refining (40 CFR Part 63, Subpart TTTTT); Learia Williams of the Office of Compliance (202) 564-4113 or via Email to: williams.learia@epa.gov; EPA ICR Number 2098.06, OMB Control Number 2060-0536; expiration date June 30, 2013.

(11) NESHAP for the Printing and Publishing Industry (40 CFR Part 63, Subpart KK); Learia Williams of the Office of Compliance (202) 564-4113 or via Email to: williams.learia@epa.gov; EPA ICR Number 1739.07, OMB Control Number 2060-0335; expiration date June 30, 2013.

(12) NSPS for Pressure Sensitive Tape and Label Surface Coating (40 CFR Part 60, Subpart RR); Learia Williams of the Office of Compliance (202) 564-4113 or via Email to: williams.learia@epa.gov; EPA ICR Number 0658.11, OMB Control Number 2060-0004; expiration date June 30, 2013.

(13) NESHAP for Oil and Natural Gas Production (40 CFR Part 63, Subpart HH); Learia Williams of the Office of Compliance (202) 564-4113 or via Email to: williams.learia@epa.gov; EPA ICR Number 1788.10, OMB Control Number 2060-0417; expiration date June 30, 2013.

(14) NESHAP for Site Remediation (40 CFR Part 63, Subpart GGGGG); Learia Williams of the Office of Compliance (202) 564-4113 or via Email to: williams.learia@epa.gov; EPA ICR Number 2062.05, OMB Control Number 2060-0534; expiration date June 30, 2013.

(15) NESHAP for Plastic Parts and Products Surface Coating (40 CFR Part 63, Subpart PPPP); Learia Williams of the Office of Compliance (202) 564-4113 or via Email to: williams.learia@epa.gov; EPA ICR Number 2044.05, OMB Control Number 2060-0537; expiration date June 30, 2013.

(16) NSPS/NESHAP for Wool Fiberglass Insulation Manufacturing Plants (40 CFR Part 60, Subpart PPP and 40 CFR Part 63, Subpart NNN); Learia Williams of the Office of Compliance (202) 564-4113 or via Email to: williams.learia@epa.gov; EPA ICR Number 1160.11, OMB Control Number 2060-0114; expiration date June 30, 2013.

(17) NSPS for Flexible Vinyl and Urethane Coating and Printing (40 CFR Part 60, Subpart FFF); Learia Williams of the Office of Compliance (202) 564-4113 or via Email to: williams.learia@epa.gov; EPA ICR Number 1157.10, OMB Control Number 2060-0073; expiration date June 30, 2013.

(18) NSPS for Storage Vessels for Petroleum Liquids for which Construction, Reconstruction or Modification Commenced after June 11, 1973, and prior to May 19, 1978 (40 CFR Part 60, Subpart K); Learia Williams of the Office of Compliance (202) 564-4113 or via Email to: williams.learia@epa.gov; EPA ICR Number 1797.06, OMB Control Number 2060-0442; expiration date June 30, 2013.

(19) NSPS for Commercial and Industrial Solid Waste Incineration Units (40 CFR Part 60, Subpart CCCC); Learia Williams of the Office of Compliance (202) 564-4113 or via Email to: williams.learia@epa.gov; EPA ICR Number 1926.06, OMB Control Number 2060-0450; expiration date June 30, 2013.

(20) NSPS for Nitric Acid Plants (40 CFR Part 60, Subpart G); Learia Williams of the Office of Compliance (202) 564-4113 or via Email to: williams.learia@epa.gov; EPA ICR Number 1056.11, OMB Control Number 2060-0019; expiration date June 30, 2013.

(21) NSPS for Automobile and Light Duty Truck Surface Coating Operations (40 CFR Part 60, Subpart MM); Learia Williams of the Office of Compliance (202) 564-4113 or via Email to: williams.learia@epa.gov; EPA ICR Number 1064.17, OMB Control Number 2060-0034; expiration date June 30, 2013.

(22) NSPS for Lead-Acid Battery Manufacturing (40 CFR Part 60, Subpart KK); Learia Williams of the Office of Compliance (202) 564-4113 or via Email to: williams.learia@epa.gov; EPA ICR Number 1072.10, OMB Control Number 2060-0081; expiration date June 30, 2013.

(23) NESHAP for Miscellaneous Coating Manufacturing (40 CFR Part 63, Subpart HHHHH); Learia Williams of the Office of Compliance (202) 564-4113 or via Email to: williams.learia@epa.gov; EPA ICR Number 2115.04, OMB Control Number 2060-0535; expiration date June 30, 2013.

(24) NESHAP for Phosphoric Acid Manufacturing and Phosphate Fertilizers Production (40 CFR Part 63, Subparts AA and BB); Learia Williams of the Office of Compliance (202) 564-4113 or via Email to: williams.learia@epa.gov; EPA ICR Number 1790.06, OMB Control Number 2060-0361; expiration date June 30, 2013.

(25) NESHAP for Flexible Polyurethane Foam Product (40 CFR Part 63, Subpart III); Learia Williams of the Office of Compliance (202) 564-4113 or via Email to: williams.learia@epa.gov; EPA ICR Number 1783.06, OMB Control Number 2060-0357; expiration date June 30, 2013.

(26) Emission Guidelines for Existing Commerce and Industrial Solid Waste Incineration Units (40 CFR Part 60, Subpart DDDD); Learia Williams of the Office of Compliance (202) 564-4113 or via Email to: williams.learia@epa.gov; EPA ICR Number 1927.06, OMB Control Number 2060-0451; expiration date June 30, 2013.

(27) NESHAP for Halogenated Solvent Cleaners/Halogenated Hazardous Air Pollutants (40 CFR Part 63, Subpart T); Learia Williams of the Office of Compliance (202) 564-4113 or via Email to: williams.learia@epa.gov; EPA ICR Number 1652.08, OMB Control Number 2060-0273; expiration date June 30, 2013.

(28) NESHAP for Magnetic Tape Manufacturing Operations (40 CFR Part 63, Subpart EE); Learia Williams of the Office of Compliance (202) 564-4113 or via Email to: williams.learia@epa.gov; EPA ICR Number 1678.08, OMB Control Number 2060-0326; expiration date June 30, 2013.

(29) NESHAP for Mineral Wool Production (40 CFR Part 63, Subpart DDD); Learia Williams of the Office of Compliance (202) 564-4113 or via Email to: williams.learia@epa.gov; EPA ICR Number 1799.07, OMB Control Number 2060-0362; expiration date June 30, 2013.

(30) NESHAP for Commercial Ethylene Oxide Sterilization and Fumigation Operations (40 CFR Part 63, Subpart O); Learia Williams of the Office of Compliance (202) 564-4113 or via Email to: williams.learia@epa.gov; EPA ICR Number 1666.09, OMB Control Number 2060-0283; expiration date June 30, 2013.

(31) NSPS for Incinerators (40 CFR Part 60, Subpart E); Learia Williams of the Office of Compliance (202) 564-4113 or via Email to: williams.learia@epa.gov; EPA ICR Number 1058.11, OMB Control Number 2060-0040; expiration date August 31, 2013.

(32) NESHAP for Iron and Steel Foundries (40 CFR Part 63, subpart EEEEE); Learia Williams of the Office of Compliance (202) 564-4113 or via Email to: williams.learia@epa.gov; EPA ICR Number 2096.05, OMB Control Number 2060-0538; expiration date September 30, 2013.

(33) NESHAP for Organic Liquids Distribution (Non-Gasoline) Facilities (40 CFR Part 63, Subpart EEEE); Learia Williams of the Office of Compliance (202) 564-4113 or via Email to: williams.learia@epa.gov; EPA ICR Number 1963.05, OMB Control Number 2060-0539; expiration date September 30, 2013.

(34) NESHAP for Gasoline Distribution Facilities (40 CFR Part 63, Subpart R); Learia Williams of the Office of Compliance (202) 564-4113 or via Email to: williams.learia@epa.gov; EPA ICR Number 1659.08, OMB Control Number 2060-0325; expiration date September 30, 2013.

(35) NESHAP for Stationary Combustion Turbines (40 CFR Part 63, Subpart YYYY); Learia Williams of the Office of Compliance (202) 564-4113 or via Email to: williams.learia@epa.gov; EPA ICR Number 1967.05, OMB Control Number 2060-0540; expiration date September 30, 2013.

(36) NESHAP for Automobile and Light-duty Truck Surface Coating (40 CFR Part 63, Subpart IIII); Learia Williams of the Office of Compliance (202) 564-4113 or via Email to: williams.learia@epa.gov; EPA ICR Number 2045.05, OMB Control Number 2060-0550; expiration date September 30, 2013.

(37) NESHAP for Petroleum Refineries, Catalytic Cracking, Reforming and Sulfur Units (40 CFR Part 63, Subpart UUU); Learia Williams of the Office of Compliance (202) 564-4113 or via Email to: williams.learia@epa.gov; EPA ICR Number 1844.05, OMB Control Number 2060-0554; expiration date September 30, 2013.

D. Information for Individual ICRs

(1) NESHAP for Perchloroethylene Dry Cleaning Facilities (40 CFR Part 63, Subpart M); Docket ID Number: EPA-HQ-OECA-2012-0659, EPA ICR Number 1415.10; OMB Control Number 2060-0234; expiration date March 31, 2013.

Affected Entities: Entities potentially affected by this action are the owners or operators of perchloroethylene dry cleaning facilities.

Abstract: The affected entities are subject to the General Provisions of the NESHAP at 40 CFR part 63, subpart A, and any changes, or additions to the General Provisions specified at 40 CFR part 63, subpart M.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 50 hours per response.

Respondents/Affected Entities: Owners or operator of perchloroethylene dry cleaning facilities.

Estimated Number of Respondents: 28,012.

Frequency of Response: Initially, occasionally, and semiannually.

Estimated Total Annual Hour Burden: 1,531,851.

Estimated Total Annual Cost: $150,708,638, which includes $149,772,225 in labor costs, $582,500 in capital/startup costs, and $353,913 in operating and maintenance costs.

(2) Emission Guidelines and Compliance Times for Municipal Solid Waste Landfills (40 CFR Part 60, Subpart Cc and 40 CFR Part 62, Subpart GGG); Docket ID Number: EPA-HQ-OECA-2012-0680; EPA ICR Number 1893.06; OMB Control Number 2060-0430; expiration date March 31, 2013.

Affected Entities: Entities potentially affected by this action are the owners or operators of municipal solid waste landfills.

Abstract: The affected entities are subject to the General Provisions of the Emission Guidelines at 40 CFR part 60, subpart A, and any changes, or additions to the General Provisions specified at 40 CFR part 60, subpart Cc and part 62, Subpart GGG.

Owners or operators of the affected facilities must submit initial notification, performance tests, and periodic reports and results. Owners or operators are also required to maintain records of the occurrence and duration of any startup, shutdown, or malfunction in the operation of an affected facility, or any period during which the monitoring system is inoperative. Reports, at a minimum, are required monthly.

Burden Statement: The annual public reporting and recordkeeping burden for this collection of information is estimated to average 15 hours per response.

Respondents/Affected Entities: Owners or operator of municipal solid waste landfills.

Estimated Number of Respondents: 559.

Frequency of Response: Monthly, quarterly, and annually.

Estimated Total Annual Hour Burden: 46,146.

Estimated Total Annual Cost: $3,956,321, which includes $3,229,721 in labor costs, no capital/startup costs, and $726,600 in operating and maintenance costs.

(3) NESHAP for Taconite Iron Ore Processing (40 CFR Part 63, Subpart RRRRR); Docket ID Number: EPA-HQ-OECA-2012-0693; EPA ICR Number 2050.05; OMB Control Number 2060-0538; expiration date March 31, 2013.

Affected Entities: Entities potentially affected by this action are the owners or operators of taconite iron ore processing plants.

Abstract: The affected entities are subject to the General Provisions of the NESHAP at 40 CFR part 63, subpart A, and any changes, or additions to the General Provisions specified at 40 CFR part 63, subpart RRRRR.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 22 hours per response.

Respondents/Affected Entities: Owners or operator of taconite iron ore processing plants.

Estimated Number of Respondents: 8.

Frequency of Response: Occasionally.

Estimated Total Annual Hour Burden: 651.

Estimated Total Annual Cost: $1,012,546, which includes $754,946 in labor costs, no capital/startup costs, and $257,600 in operating and maintenance costs.

(4) NSPS for Steel Plants: Electric Arc Furnaces and Argon Oxygen Decarbonization Vessels (40 CFR Part 60, Subparts AA and AAa); Docket ID Number: EPA-HQ-OECA-2012-0653; EPA ICR Number 1060.16; OMB Control Number 2060-0038; expiration date March 31, 2013.

Affected Entities: Entities potentially affected by this action are the owners or operators of electric arc furnaces and argon oxygen decarbonization vessels.

Abstract: The affected entities are subject to the General Provisions of the NSPS at 40 CFR part 60, subpart A, and any changes, or additions to the General Provisions specified at 40 CFR part 60, subparts AA and AAa.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 308 hours per response.

Respondents/Affected Entities: Owners or operator of electric arc furnaces and argon oxygen decarbonization vessels.

Estimated Number of Respondents: 98.

Frequency of Response: Initially and semiannually.

Estimated Total Annual Hour Burden: 60,745.

Estimated Total Annual Cost: $5,911,975, which includes $5,712,985 in labor costs, $5,490 in capital/startup costs, and $193,500 in operating and maintenance costs.

(5) NESHAP for Prepared Feeds Manufacturing (40 CFR Part 63, Subpart DDDDDDD); Docket ID Number: EPA-HQ-OECA-2012-0703; EPA ICR Number 2354.03; OMB Control Number 2060-0635; expiration date March 31, 2013.

Affected Entities: Entities potentially affected by this action are the owners or operators of prepared feed manufacturing facilities.

Abstract: The affected entities are subject to the General Provisions of the NESHAP at 40 CFR part 63, subpart A, and any changes, or additions to the General Provisions specified at 40 CFR part 63, subpart DDDDDDD.

Owners or operators of the affected facilities must submit initial notification, performance tests, and periodic reports and results. Owners or operators are also required to maintain records of the occurrence and duration of any startup, shutdown, or malfunction in the operation of an affected facility, or any period during which the monitoring system is inoperative. Reports, at a minimum, are required annually.

Burden Statement: The annual public reporting and recordkeeping burden for this collection of information is estimated to average 18 hours per response.

Respondents/Affected Entities: Owners or operator of prepared feed manufacturing facilities.

Estimated Number of Respondents: 1,800.

Frequency of Response: Initially and annually.

Estimated Total Annual Hour Burden: 22,179.

Estimated Total Annual Cost: $1,760,711, which includes $1,734,260 in labor costs, $13,843 in capital/startup costs, and $12,608 in operating and maintenance costs.

(6) NESHAP for Chemical Preparations Industry (40 CFR Part 63, Subpart BBBBBBB); Docket ID Number: EPA-HQ-OECA-2012-0642; EPA ICR Number 2356.03; OMB Control Number 2060-0636; expiration date March 31, 2013.

Affected Entities: Entities potentially affected by this action are the owners or operators of area source facilities that manufacture chemical preparations.

Abstract: The affected entities are subject to the General Provisions of the NESHAP at 40 CFR part 63, subpart A, and any changes, or additions to the General Provisions specified at 40 CFR part 63, subpart BBBBBBB.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 46 hours per response.

Respondents/Affected Entities: Owners or operator of area source facilities that manufacture chemical preparations.

Estimated Number of Respondents: 26.

Frequency of Response: Semiannually.

Estimated Total Annual Hour Burden: 2,372.

Estimated Total Annual Cost: $175,618, which includes $175,098 in labor costs, no capital/startup costs, and $520 in operating and maintenance costs.

(7) NSPS for Ammonium Sulfate Manufacturing Plants (40 CFR Part 60, Subpart PP); Docket ID Number: EPA-HQ-OECA-2012-0655, EPA ICR Number 1066.07; OMB Control Number 2060-0032, expiration date April 30, 2013.

Affected Entities: Entities potentially affected by this action are the owners or operators of ammonium sulfate manufacturing plants.

Abstract: The affected entities are subject to the General Provisions of the NSPS at 40 CFR part 60, subpart A, and any changes, or additions to the General Provisions specified at 40 CFR part 60, subpart PP.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 62 hours per response.

Respondents/Affected Entities: Owners or operator of ammonium sulfate manufacturing plants.

Estimated Number of Respondents: 2.

Frequency of Response: Initially, occasionally, and semiannually.

Estimated Total Annual Hour Burden: 247.

Estimated Total Annual Cost: $23,183, which includes $23,183 in labor costs, no capital/startup costs, and no operating and maintenance costs.

(8) NESHAP for Area Sources: Polyvinyl Chloride and Copolymer Production, Primary Copper Smelting, Secondary Copper Smelting, and Primary Nonferrous Metals—Zinc, Cadmium, and Beryllium; Docket ID Number: EPA-HQ-OECA-2012-0702; EPA ICR Number 2240.04; OMB Control Number 2060-0596; expiration date May 31, 2013.

Affected Entities: Entities potentially affected by this action are the owners or operators of primary copper smelter, a new secondary copper smelter, a new or existing primary zinc production facility or a primary beryllium production facility that is an area source of hazardous air pollutant (HAP) emissions.

Abstract: The affected entities are subject to the General Provisions of the NESHAP at 40 CFR part 63, subpart A, and any changes, or additions to the General Provisions specified at 40 CFR part 63, subparts DDDDDDD, EEEEEEE, FFFFFFF, and GGGGGGG.

Owners or operators of the affected facilities must submit initial notification, performance tests, and periodic reports and results. Owners or operators are also required to maintain records of the occurrence and duration of any startup, shutdown, or malfunction in the operation of an affected facility, or any period during which the monitoring system is inoperative. Reports, at a minimum, are required annually.

Burden Statement: The annual public reporting and recordkeeping burden for this collection of information is estimated to average 12 hours per response.

Respondents/Affected Entities: Owners or operator of primary copper smelter, a new secondary copper smelter, a new or existing primary zinc production facility or a primary beryllium production facility that is an area source of HAP emissions.

Estimated Number of Respondents: 5.

Frequency of Response: Initially.

Estimated Total Annual Hour Burden: 46.

Estimated Total Annual Cost: $4,326, which includes $4,326 in labor costs, no capital/startup costs, and no operating and maintenance costs.

(9) NESHAP for Mercury Cell Chlor-Alkali Plants (40 CFR Part 63, Subpart IIIII); Docket ID Number: EPA-HQ-OECA-2012-0691; EPA ICR Number 2046.07; OMB Control Number 2060-0542; expiration date May 31, 2013.

Affected Entities: Entities potentially affected by this action are the owners or operators of mercury cell chlor-alkali plants.

Abstract: The affected entities are subject to the General Provisions of the NESHAP at 40 CFR part 63, subpart A, and any changes, or additions to the General Provisions specified at 40 CFR part 63, subpart IIIII.

Owners or operators of the affected facilities must submit initial notification, performance tests, and periodic reports and results. Owners or operators are also required to maintain records of the occurrence and duration of any startup, shutdown, or malfunction in the operation of an affected facility, or any period during which the monitoring system is inoperative. Reports, at a minimum, are required annually.

Burden Statement: The annual public reporting and recordkeeping burden for this collection of information is estimated to average 809 hours per response.

Respondents/Affected Entities: Owners or operator of mercury cell chlor-alkali plants.

Estimated Number of Respondents: 4.

Frequency of Response: Initially, daily, monthly, quarterly, and semiannually.

Estimated Total Annual Hour Burden: 14,557.

Estimated Total Annual Cost: $1,491,978, which includes $1,418,178 in labor costs, no capital/startup costs, and $73,800 in operating and maintenance costs.

(10) NESHAP for Primary Magnesium Refining (40 CFR Part 63, Subpart TTTTT); Docket ID Number: EPA-HQ-OECA-2012-0699; EPA ICR Number 2098.06; OMB Control Number 2060-0536; expiration date June 30, 2013.

Affected Entities: Entities potentially affected by this action are the owners or operators of primary magnesium refining facilities.

Abstract: The affected entities are subject to the General Provisions of the NESHAP at 40 CFR part 63, subpart A, and any changes, or additions to the General Provisions specified at 40 CFR part 63, subpart TTTTT.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 153 hours per response.

Respondents/Affected Entities: Owners or operator of primary magnesium refining facilities.

Estimated Number of Respondents: 1.

Frequency of Response: Occasionally and semiannually.

Estimated Total Annual Hour Burden: 611.

Estimated Total Annual Cost: $52,991, which includes $51,791 in labor costs, no capital/startup costs, and $1,200 in operating and maintenance costs.

(11) NESHAP for the Printing and Publishing Industry (40 CFR Part 63, Subpart KK); Docket ID Number: EPA-HQ-OECA-2012-0666; EPA ICR Number 1739.07; OMB Control Number 2060-0335; expiration date June 30, 2013.

Affected Entities: Entities potentially affected by this action are the owners or operators of printing and publishing facilities.

Abstract: The affected entities are subject to the General Provisions of the NESHAP at 40 CFR part 63, subpart A, and any changes, or additions to the General Provisions specified at 40 CFR part 63, subpart KK.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 95 hours per response.

Respondents/Affected Entities: Printing and publishing industry.

Estimated Number of Respondents: 352.

Frequency of Response: Initially, annually, and semiannually.

Estimated Total Annual Hour Burden: 58,215.

Estimated Total Annual Cost: $5,888,997, which includes $5,474,997 in labor costs, no capital/startup costs, and $414,000 in operating and maintenance costs.

(12) NSPS for Pressure Sensitive Tape and Label Surface Coating (40 CFR Part 60, Subpart RR); Docket ID Number: EPA-HQ-OECA-2012-0643; EPA ICR Number 0658.11; OMB Control Number 2060-0004; expiration date June 30, 2013.

Affected Entities: Entities potentially affected by this action are the owners or operators of pressure sensitive tape and label surface coating operations.

Abstract: The affected entities are subject to the General Provisions of the NSPS at 40 CFR part 60, subpart A, and any changes, or additions to the General Provisions specified at 40 CFR part 60, subpart RR.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 25 hours per response.

Respondents/Affected Entities: Owners or operator of pressure sensitive tape and label surface coating operations.

Estimated Number of Respondents: 37.

Frequency of Response: Initially and semiannually.

Estimated Total Annual Hour Burden: 3,353.

Estimated Total Annual Cost: $387,141, which includes $315,341 in labor costs, $7,000 in capital/startup costs, and $64,800 in operating and maintenance costs.

(13) NESHAP for Oil and Natural Gas Production (40 CFR Part 63, Subpart HH); Docket ID Number: EPA-HQ-OECA-2012-0669; EPA ICR Number 1788.10; OMB Control Number 2060-0417; expiration date June 30, 2013.

Affected Entities: Entities potentially affected by this action are the owners or operators of oil and natural gas production facilities.

Abstract: The affected entities are subject to the General Provisions of the NESHAP at 40 CFR part 63, subpart A, and any changes, or additions to the General Provisions specified at 40 CFR part 63, subpart HH.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 75 hours per response.

Respondents/Affected Entities: Oil and natural gas production.

Estimated Number of Respondents: 132,527.

Frequency of Response: Initially, annually, and semiannually.

Estimated Total Annual Hour Burden: 178,975.

Estimated Total Annual Cost: $17,243,906, which includes $16,649,703 in labor costs, $23,445 in capital/startup costs, and $570,758 in operating and maintenance costs.

(14) NESHAP for Site Remediation (40 CFR Part 63, Subpart GGGGG); Docket ID Number: EPA-HQ-OECA-2012-0695; EPA ICR Number 2062.05; OMB Control Number 2060-0534; expiration date June 30, 2013.

Affected Entities: Entities potentially affected by this action are the owners or operators of site remediation facilities.

Abstract: The affected entities are subject to the General Provisions of the NESHAP at 40 CFR part 63, subpart A, and any changes, or additions to the General Provisions specified at 40 CFR part 63, subpart GGGGG.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 219 hours per response.

Respondents/Affected Entities: Owners or operator of site remediation facilities.

Estimated Number of Respondents: 286.

Frequency of Response: Initially, occasionally, and semiannually.

Estimated Total Annual Hour Burden: 112,349.

Estimated Total Annual Cost: $11,378,331, which includes $10,796,331 in labor costs, no capital/startup costs, and $582,000 in operating and maintenance costs.

(15) NESHAP for Plastic Parts and Products Surface Coating (40 CFR Part 63, Subpart PPPP); Docket ID Number: EPA-HQ-OECA-2012-0688; EPA ICR Number 2044.05; OMB Control Number 2060-0537; expiration date June 30, 2013.

Affected Entities: Entities potentially affected by this action are the owners or operators of plastic parts and products surface coating facilities.

Abstract: The affected entities are subject to the General Provisions of the NESHAP at 40 CFR part 63, subpart A, and any changes, or additions to the General Provisions specified at 40 CFR part 63, subpart PPPP.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 91 hours per response.

Respondents/Affected Entities: Plastic parts and products surface coating facilities.

Estimated Number of Respondents: 828.

Frequency of Response: Initially, occasionally, and semiannually.

Estimated Total Annual Hour Burden: 320,917.

Estimated Total Annual Cost: $27,444,633, which includes $27,180,233 in labor costs, $16,000 in capital/startup costs, and $248,400 in operating and maintenance costs.

(16) NSPS/NESHAP for Wool Fiberglass Insulation Manufacturing Plants (40 CFR Part 60, Subpart PPP and 40 CFR Part 63, Subpart NNN); Docket ID Number: EPA-HQ-OECA-2012-0658; EPA ICR Number 1160.11; OMB Control Number 2060-0114; expiration date June 30, 2013.

Affected Entities: Entities potentially affected by this action are the owners or operators of wool fiberglass insulation manufacturing facilities.

Abstract: The affected entities are subject to the General Provisions of the NSPS/NESHAP at 40 CFR part 60, subpart A and part 63, subpart A, and any changes, or additions to the General Provisions specified at 40 CFR part 60, subpart PPP and part 63, subpart NNN.

Owners or operators of the affected facilities must submit initial notification, performance tests, and periodic reports and results. Owners or operators are also required to maintain records of the occurrence and duration of any startup, shutdown, or malfunction in the operation of an affected facility, or any period during which the monitoring system is inoperative. Reports, at a minimum, are required annually.

Burden Statement: The annual public reporting and recordkeeping burden for this collection of information is estimated to average 5 hours per response.

Respondents/Affected Entities: Owners or operator of wool fiberglass manufacturing facilities.

Estimated Number of Respondents: 2.

Frequency of Response: Annually.

Estimated Total Annual Hour Burden: 18,591.

Estimated Total Annual Cost: $2,247,973, which includes $1,759,473 in labor costs, no capital/startup costs, and $488,500 in operating and maintenance costs.

(17) NSPS for Flexible Vinyl and Urethane Coating and Printing (40 CFR Part 60, Subpart FFF); Docket ID Number: EPA-HQ-OECA-2012-0657; EPA ICR Number 1157.10; OMB Control Number 2060-0073; expiration date June 30, 2013.

Affected Entities: Entities potentially affected by this action are the owners or operators of flexible vinyl and urethane coating and printing operations facilities.

Abstract: The affected entities are subject to the General Provisions of the NSPS at 40 CFR part 60, subpart A, and any changes, or additions to the General Provisions specified at 40 CFR part 60, subpart FFF.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 15 hours per response.

Respondents/Affected Entities: Owners or operator of flexible vinyl and urethane coating and printing operations facilities.

Estimated Number of Respondents: 20.

Frequency of Response: Semiannually.

Estimated Total Annual Hour Burden: 594.

Estimated Total Annual Cost: $242,431, which includes $55,831 in labor costs, $6,600 in capital/startup costs, and $180,000 in operating and maintenance costs.

(18) NSPS for Storage Vessels for Petroleum Liquids for which Construction, Reconstruction or Modification Commenced after June 11, 1973, and prior to May 19, 1978 (40 CFR Part 60, Subpart K); Docket ID Number: EPA-HQ-OECA-2012-0677; EPA ICR Number 1797.06; OMB Control Number 2060-0442; expiration date June 30, 2013.

Affected Entities: Entities potentially affected by this action are the owners or operators of petroleum liquid storage vessels.

Abstract: The affected entities are subject to the General Provisions of the NSPS at 40 CFR part 60, subpart A, and any changes, or additions to the General Provisions specified at 40 CFR part 60, subpart K.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 4 hours per response.

Respondents/Affected Entities: Owners or operator of petroleum liquid storage vessels.

Estimated Number of Respondents: 220.

Frequency of Response: Initially, occasionally, and semiannually.

Estimated Total Annual Hour Burden: 769.

Estimated Total Annual Cost: $72,750, which includes $72,750 in labor costs, no capital/startup costs, and no operating and maintenance costs.

(19) NSPS for Commercial and Industrial Solid Waste Incineration Units (40 CFR Part 60, Subpart CCCC); Docket ID Number: EPA-HQ-OECA-2012-0681; EPA ICR Number 1926.06; OMB Control Number 2060-0450; expiration date June 30, 2013.

Affected Entities: Entities potentially affected by this action are the owners or operators of commercial and industrial solid waste incineration units.

Abstract: The affected entities are subject to the General Provisions of the NSPS at 40 CFR part 60, subpart A, and any changes, or additions to the General Provisions specified at 40 CFR part 60, subpart CCCC.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 239 hours per response.

Respondents/Affected Entities: Owners or operator of commercial and industrial solid waste incineration units.

Estimated Number of Respondents: 31.

Frequency of Response: Initially, occasionally, semiannually, and annually.

Estimated Total Annual Hour Burden: 11,246.

Estimated Total Annual Cost: $1,029,921, which includes $1,021,351 in labor costs, $2,240 in capital/startup costs, and $6,330 in operating and maintenance costs.

(20) NSPS for Nitric Acid Plants (40 CFR Part 60, Subpart G); Docket ID Number: EPA-HQ-OECA-2012-0645; EPA ICR Number 1056.11; OMB Control Number 2060-0019; expiration date June 30, 2013.

Affected Entities: Entities potentially affected by this action are the owners or operators of nitric acid plants.

Abstract: The affected entities are subject to the General Provisions of the NSPS at 40 CFR part 60, subpart A, and any changes, or additions to the General Provisions specified at 40 CFR part 60, subpart G.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 15 hours per response.

Respondents/Affected Entities: Owners or operator of nitric acid plants.

Estimated Number of Respondents: 24.

Frequency of Response: Initially, occasionally, and semiannually.

Estimated Total Annual Hour Burden: 1,291.

Estimated Total Annual Cost: $2,549,639, which includes $81,639 in labor costs, $68,000 in capital/startup costs, and $2,400,000 in operating and maintenance costs.

(21) NSPS for Automobile and Light Duty Truck Surface Coating Operations (40 CFR Part 60, Subpart MM); Docket ID Number: EPA-HQ-OECA-2012-0654; EPA ICR Number 1064.17; OMB Control Number 2060-0034; expiration date June 30, 2013.

Affected Entities: Entities potentially affected by this action are the owners or operators of automobile and light duty truck surface coating operations facilities.

Abstract: The affected entities are subject to the General Provisions of the NSPS at 40 CFR part 60, subpart A, and any changes, or additions to the General Provisions specified at 40 CFR part 60, subpart MM.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average approximately 483 hours per response.

Respondents/Affected Entities: Owners or operator of automobile and light duty truck surface coating operations facilities.

Estimated Number of Respondents: 54.

Frequency of Response: Initially, quarterly, and semiannually.

Estimated Total Annual Hour Burden: 156,362.

Estimated Total Annual Cost: $14,882,842, which includes $14,790,142 in labor costs, $1,700 in capital/startup costs, and $91,000 in operating and maintenance costs.

(22) NSPS for Lead-Acid Battery Manufacturing (40 CFR Part 60, Subpart KK); Docket ID Number: EPA-HQ-OECA-2012-0656; EPA ICR Number 1072.10; OMB Control Number 2060-0081; expiration date June 30, 2013.

Affected Entities: Entities potentially affected by this action are the owners or operators of lead acid battery manufacturing facilities.

Abstract: The affected entities are subject to the General Provisions of the NSPS at 40 CFR part 60, subpart A, and any changes, or additions to the General Provisions specified at 40 CFR part 60, subpart KK.

Owners or operators of the affected facilities must submit initial notification, performance tests, and periodic reports and results. Owners or operators are also required to maintain records of the occurrence and duration of any startup, shutdown, or malfunction in the operation of an affected facility, or any period during which the monitoring system is inoperative. Reports, at a minimum, are required annually.

Burden Statement: The annual public reporting and recordkeeping burden for this collection of information is estimated to average 62 hours per response.

Respondents/Affected Entities: Owners or operator of lead acid battery manufacturing facilities.

Estimated Number of Respondents: 52.

Frequency of Response: Initially and semiannually.

Estimated Total Annual Hour Burden: 4,053.

Estimated Total Annual Cost: $395,346, which includes $383,346 in labor costs, no capital/startup costs, and $12,000 in operating and maintenance costs.

(23) NESHAP for Miscellaneous Coating Manufacturing (40 CFR Part 63, Subpart HHHHH); Docket ID Number: EPA-HQ-OECA-2012-0701; EPA ICR Number 2115.04; OMB Control Number 2060-0535; expiration date June 30, 2013.

Affected Entities: Entities potentially affected by this action are the owners or operators of miscellaneous coating manufacturing facilities.

Abstract: The affected entities are subject to the General Provisions of the NESHAP at 40 CFR part 63, subpart A, and any changes, or additions to the General Provisions specified at 40 CFR part 63, subpart HHHHH.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 296 hours per response.

Respondents/Affected Entities: Owners or operators of miscellaneous coating manufacturing facilities.

Estimated Number of Respondents: 133.

Frequency of Response: Initially, occasionally, semiannually and annually.

Estimated Total Annual Hour Burden: 167,572.

Estimated Total Annual Cost: $17,007,914, which includes $14,192,714 in labor costs, $30,000 in capital/startup costs, and $2,785,200 in operating and maintenance costs.

(24) NESHAP for Phosphoric Acid Manufacturing and Phosphate Fertilizers Production (40 CFR Part 63, Subparts AA and BB); Docket ID Number: EPA-HQ-OECA-2012-0676; EPA ICR Number 1790.06; OMB Control Number 2060-0361; expiration date June 30, 2013.

Affected Entities: Entities potentially affected by this action are the owners or operators of phosphoric acid manufacturing and phosphate fertilizers production facilities.

Abstract: The affected entities are subject to the General Provisions of the NESHAP at 40 CFR part 63, subpart A, and any changes, or additions to the General Provisions specified at 40 CFR part 63, subparts AA and BB.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 18 hours per response.

Respondents/Affected Entities: Owners or operator of phosphoric acid manufacturing and phosphate fertilizers production facilities

Estimated Number of Respondents: 12.

Frequency of Response: Initially, occasionally, semiannually and annually.

Estimated Total Annual Hour Burden: 1,534.

Estimated Total Annual Cost: $154,929, which includes $144,297 in labor costs, no capital/startup costs, and $10,632 in operating and maintenance costs.

(25) NESHAP for Flexible Polyurethane Foam Product (40 CFR Part 63, Subpart III); Docket ID Number: EPA-HQ-OECA-2012-0668, EPA ICR Number 1783.06; OMB Control Number 2060-0357; expiration date June 30, 2013.

Affected Entities: Entities potentially affected by this action are the owners or operators of flexible polyurethane foam product facilities.

Abstract: The affected entities are subject to the General Provisions of the NESHAP at 40 CFR part 63, subpart A, and any changes, or additions to the General Provisions specified at 40 CFR part 63, subpart III.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 43 hours per response.

Respondents/Affected Entities: Owners or operator of flexible polyurethane foam product facilities.

Estimated Number of Respondents: 132.

Frequency of Response: Initially, occasionally, semiannually, and annually.

Estimated Total Annual Hour Burden: 9,047.

Estimated Total Annual Cost: $850,851, which includes $850,851 in labor costs, no capital/startup costs, and no operating and maintenance costs.

(26) Emission Guidelines for Existing Commerce and Industrial Solid Waste Incineration Units (40 CFR Part 60, Subpart DDDD); Docket ID Number: EPA-HQ-OECA-2012-0685; EPA ICR Number 1927.06; OMB Control Number 2060-0451; expiration date June 30, 2013.

Affected Entities: Entities potentially affected by this action are the owners or operators of commercial and industrial solid waste incineration units.

Abstract: The affected entities are subject to the General Provisions of the Emission Guidelines at 40 CFR part 60, subpart A, and any changes, or additions to the General Provisions specified at 40 CFR part 60, subpart DDDD.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 232 hours per response.

Respondents/Affected Entities: Owners or operator of commercial and industrial solid waste incineration units.

Estimated Number of Respondents: 97.

Frequency of Response: Initially, occasionally, semiannually and annually.

Estimated Total Annual Hour Burden: 31,619.

Estimated Total Annual Cost: $2,904,577, which includes $2,884,110 in labor costs, no capital/startup costs, and $20,467 in operating and maintenance costs.

(27) NESHAP for Halogenated Solvent Cleaners/Halogenated Hazardous Air Pollutants (40 CFR Part 63, Subpart T); Docket ID Number: EPA-HQ-OECA-2012-0660; EPA ICR Number 1652.08; OMB Control Number 2060-0273; expiration date June 30, 2013.

Affected Entities: Entities potentially affected by this action are the owners or operators of halogenated solvent cleaners.

Abstract: The affected entities are subject to the General Provisions of the NESHAP at 40 CFR part 63, subpart A, and any changes, or additions to the General Provisions specified at 40 CFR part 63, subpart T.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 14 hours per response.

Respondents/Affected Entities: Halogenated solvent cleaners.

Estimated Number of Respondents: 1,431.

Frequency of Response: Initially, occasionally, quarterly, semiannually and annually.

Estimated Total Annual Hour Burden: 41,035.

Estimated Total Annual Cost: $4,992,717, which includes $3,977,917 in labor costs, no capital/startup costs, and $1,014,800 in operating and maintenance costs.

(28) NESHAP for Magnetic Tape Manufacturing Operations (40 CFR Part 63, Subpart EE); Docket ID Number: EPA-HQ-OECA-2012-0665; EPA ICR Number 1678.08; OMB Control Number 2060-0326; expiration date June 30, 2013.

Affected Entities: Entities potentially affected by this action are the owners or operators of magnetic tape manufacturing operations.

Abstract: The affected entities are subject to the General Provisions of the NESHAP at 40 CFR part 63, subpart A, and any changes, or additions to the General Provisions specified at 40 CFR part 63, subpart EE.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 15 hours per response.

Respondents/Affected Entities: Magnetic tape manufacturing operations.

Estimated Number of Respondents: 6.

Frequency of Response: Initially, occasionally, quarterly, semiannually and annually.

Estimated Total Annual Hour Burden: 3,396.

Estimated Total Annual Cost: $366,607, which includes $319,607 in labor costs, $11,000 in capital/startup costs, and $36,000 in operating and maintenance costs.

(29) NESHAP for Mineral Wool Production (40 CFR Part 63, Subpart DDD); Docket ID Number: EPA-HQ-OECA-2012-0678; EPA ICR Number 1799.07; OMB Control Number 2060-0362; expiration date June 30, 2013.

Affected Entities: Entities potentially affected by this action are the owners or operators of mineral wool production facilities.

Abstract: The affected entities are subject to the General Provisions of the NESHAP at 40 CFR part 63, subpart A, and any changes, or additions to the General Provisions specified at 40 CFR part 63, subpart DDD.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 15 hours per response.

Respondents/Affected Entities: Owners or operator of mineral wool production facilities.

Estimated Number of Respondents: 7.

Frequency of Response: Initially, semiannually and annually.

Estimated Total Annual Hour Burden: 1,688.

Estimated Total Annual Cost: $238,517, which includes $234,017 in labor costs, no capital/startup costs, and $4,500 in operating and maintenance costs.

(30) NESHAP for Commercial Ethylene Oxide Sterilization and Fumigation Operations (40 CFR Part 63, Subpart O); Docket ID Number: EPA-HQ-OECA-2012-0664; EPA ICR Number 1666.09; OMB Control Number 2060-0283; expiration date June 30, 2013.

Affected Entities: Entities potentially affected by this action are the owners or operators of commercial ethylene oxide sterilization and fumigation operations.

Abstract: The affected entities are subject to the General Provisions of the NESHAP at 40 CFR part 63, subpart A, and any changes, or additions to the General Provisions specified at 40 CFR part 63, subpart O.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 37 hours per response.

Respondents/Affected Entities: Owners or operator of commercial ethylene oxide sterilization and fumigation operations.

Estimated Number of Respondents: 119.

Frequency of Response: Initially, occasionally and semiannually.

Estimated Total Annual Hour Burden: 8,662.

Estimated Total Annual Cost: $1,467,301, which includes $819,301 in labor costs, $65,000 in capital/startup costs, and $583,000 in operating and maintenance costs.

(31) NSPS for Incinerators (40 CFR Part 60, Subpart E); Docket ID Number: EPA-HQ-OECA-2012-0646; EPA ICR Number 1058.11; OMB Control Number 2060-0040; expiration date August 31, 2013.

Affected Entities: Entities potentially affected by this action are the owners or operators of incinerators.

Abstract: The affected entities are subject to the General Provisions of the NSPS at 40 CFR part 60, subpart A, and any changes, or additions to the General Provisions specified at 40 CFR part 60, subpart E.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 51 hours per response.

Respondents/Affected Entities: Incinerators.

Estimated Number of Respondents: 82.

Frequency of Response: Initially and occasionally.

Estimated Total Annual Hour Burden: 8,393.

Estimated Total Annual Cost: $998,858, which includes $793,858 in labor costs, no capital/startup costs, and $205,000 in operating and maintenance costs.

(32) NESHAP for Iron and Steel Foundries (40 CFR Part 63, Subpart EEEEE); Docket ID Number: EPA-HQ-OECA-2012-0697; EPA ICR Number 2096.05; OMB Control Number 2060-0543; expiration date September 30, 2013.

Affected Entities: Entities potentially affected by this action are the owners or operators of iron and steel foundries.

Abstract: The affected entities are subject to the General Provisions of the NESHAP at 40 CFR part 63, subpart A, and any changes, or additions to the General Provisions specified at 40 CFR part 63, subpart EEEEE.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 151 hours per response.

Respondents/Affected Entities: Iron and steel foundries.

Estimated Number of Respondents: 98.

Frequency of Response: Initially, occasionally, and semiannually.

Estimated Total Annual Hour Burden: 29,747.

Estimated Total Annual Cost: $2,919,519, which includes $2,519,459 in labor costs, no capital/startup costs, and $400,060 in operating and maintenance costs.

(33) NESHAP for Organic Liquids Distribution (Non-Gasoline) Facilities (40 CFR Part 63, Subpart EEEE); Docket ID Number: EPA-HQ-OECA-2012-0686; EPA ICR Number 1963.05; OMB Control Number 2060-0539; expiration date September 30, 2013.

Affected Entities: Entities potentially affected by this action are the owners or operators of organic liquids distribution facilities.

Abstract: The affected entities are subject to the General Provisions of the NESHAP at 40 CFR part 63, subpart A, and any changes, or additions to the General Provisions specified at 40 CFR part 63, subpart EEEE.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 114 hours per response.

Respondents/Affected Entities: Organic liquids distribution facilities.

Estimated Number of Respondents: 381.

Frequency of Response: Initially, occasionally, semiannually, and annually.

Estimated Total Annual Hour Burden: 85,503.

Estimated Total Annual Cost: $16,646,771, which includes $8,087,607 in labor costs, $1,636,864 in capital/startup costs, and $6,922,300 in operating and maintenance costs.

(34) NESHAP for Gasoline Distribution Facilities (40 CFR Part 63, Subpart R); Docket ID Number: EPA-HQ-OECA-2012-0662; EPA ICR Number 1659.08; OMB Control Number 2060-0325; expiration date September 30, 2013.

Affected Entities: Entities potentially affected by this action are the owners or operators of gasoline distribution facilities that transfer and store gasoline, including pipeline breakout stations and bulk terminals.

Abstract: The affected entities are subject to the General Provisions of the NESHAP at 40 CFR part 63, subpart A, and any changes, or additions to the General Provisions specified at 40 CFR part 63, subpart R.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 31 hours per response.

Respondents/Affected Entities: Owners or operators of gasoline distribution facilities that transfer and store gasoline, including pipeline breakout stations and bulk terminals.

Estimated Number of Respondents: 447.

Frequency of Response: Initially and semiannually.

Estimated Total Annual Hour Burden: 15,759.

Estimated Total Annual Cost: $1,847,584, which includes $1,490,584 in labor costs, no capital/startup costs, and $357,000 in operating and maintenance costs.

(35) NESHAP for Stationary Combustion Turbines (40 CFR Part 63, Subpart YYYY); Docket ID Number: EPA-HQ-OECA-2012-0687; EPA ICR Number 1967.05; OMB Control Number 2060-0540; expiration date September 30, 2013.

Affected Entities: Entities potentially affected by this action are the owners or operators of stationary combustion turbines.

Abstract: The affected entities are subject to the General Provisions of the NESHAP at 40 CFR part 63, subpart A, and any changes, or additions to the General Provisions specified at 40 CFR part 63, subpart YYYY.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 8 hours per response.

Respondents/Affected Entities: Stationary combustion turbines.

Estimated Number of Respondents: 31.

Frequency of Response: Semiannually.

Estimated Total Annual Hour Burden: 435.

Estimated Total Annual Cost: $42,652, which includes $41,152 in labor costs, $1,500 capital/startup costs, and no operating and maintenance costs.

(36) NESHAP for Automobile and Light-duty Truck Surface Coating (40 CFR Part 63, Subpart IIII); Docket ID Number: EPA-HQ-OECA-2012-0690; EPA ICR Number 2045.05; OMB Control Number 2060-0550; expiration date September 30, 2013.

Affected Entities: Entities potentially affected by this action are the owners or operators of automobile and light-duty truck surface coating facilities.

Abstract: The affected entities are subject to the General Provisions of the NESHAP at 40 CFR part 63, subpart A, and any changes, or additions to the General Provisions specified at 40 CFR part 63, subpart IIII.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 91 hours per response.

Respondents/Affected Entities: Owners or operator of automobile and light-duty truck surface coating facilities.

Estimated Number of Respondents: 65.

Frequency of Response: Initially and semiannually.

Estimated Total Annual Hour Burden: 25,190.

Estimated Total Annual Cost: $2,321,787, which includes $2,243,787 in labor costs, no capital/startup costs, and $78,000 in operating and maintenance costs.

(37) NESHAP for Petroleum Refineries: Catalytic Cracking Units, Reforming and Sulfur Units (40 CFR Part 63, Subpart UUU); Docket ID Number: EPA-HQ-OECA-2012-0679; EPA ICR Number 1844.05; OMB Control Number 2060-0554; expiration date September 30, 2013.

Affected Entities: Entities potentially affected by this action are the owners or operators of petroleum refineries.

Abstract: The affected entities are subject to the General Provisions of the NESHAP at 40 CFR part 63, subpart A, and any changes, or additions to the General Provisions specified at 40 CFR part 63, subpart UUU.

Owners or operators of the affected facilities must submit initial notification, performance tests, and periodic reports and results. Owners or operators are also required to maintain records of the occurrence and duration of any startup, shutdown, or malfunction in the operation of an affected facility, or any period during which the monitoring system is inoperative. Reports, at a minimum, are required semiannually.

Burden Statement: The annual public reporting and recordkeeping burden for this collection of information is estimated to average 42 hours per response.

Respondents/Affected Entities: Owners or operators of petroleum refineries.

Estimated Number of Respondents: 132.

Frequency of Response: Initially and semiannually.

Estimated Total Annual Hour Burden: 11,040.

Estimated Total Annual Cost: $8,814,941, which includes $983,339 in labor costs, no capital/startup costs, and $7,831,602 in operating and maintenance costs.

EPA will consider any comments received and may amend any of the above ICRs, as appropriate. Then, the final ICR packages will be submitted to OMB for review and approval pursuant to 5 CFR 1320.12. At that time, EPA will issue one or more Federal Register notices pursuant to 5 CFR 1320.5(a)(1)(iv) to announce the submission of the ICRs to OMB and the opportunity to submit additional comments to OMB. If you have any questions about any of the above ICRs or the approval process, please contact the person listed under FOR FURTHER INFORMATION CONTACT.

Dated: September 24, 2012.
Lisa C. Lund,
Director, Office of Compliance.

[FR Doc. 2012-25544 Filed 10-16-12; 8:45 am]

BILLING CODE 6560-50-P